FEDERAL MARITIME COMMISSION

[PETITION NO. P2-20]

Petition of CMA CGM S.A., American President Lines, LLC, APL Co. Pte. Ltd. and ANL Singapore Pte Ltd for a Temporary Exemption From Standard Tariff & Service Contract Filing Requirements; Notice of Filing and Request for Comments

Served: October 8, 2020.

Notice is hereby given that CMA CGM S.A., American President Lines, LLC, APL Co. Pte. Ltd. and ANL Singapore Pte Ltd (“Petitioners”) have petitioned the Commission pursuant to 46 CFR 502.92 for temporary exemption from 46 CFR 520.7(c) & 46 CFR 520.8(a)(1), 46 CFR 520.8(4), 46 CFR 530.3(i), and 46 CFR 530.14(a). Petitioner states it “seeks this temporary exemption for the sole purpose of best serving its customers by requesting retroactive application of filings impacted by the recent cyber-attack against the CMA group.”

In order for the Commission to make a thorough evaluation of the requested exemption and rulemaking presented in the Petition, pursuant to 46 CFR 502.92, interested parties are requested to submit views or arguments in reply to the Petition no later than October 15, 2020. Replies shall be sent to the Secretary by email to Secretary@fmc.gov and replies shall be served on Petitioner's counsel, Draughn Arbona, usa.darbona@usa.cma-cgm.com.

Non-confidential filings may be submitted by email as a PDF attachment to Secretary@fmc.gov and include in the subject line: P2-20 (Commenter/Company). A confidential filing must be accompanied by a transmittal letter that identifies the filing as “Confidential-Restricted” and describes the nature and extent of the confidential treatment requested. The Commission will provide confidential treatment to the extent allowed by law for confidential submissions, or parts of submissions, for which confidentiality has been requested. When a confidential filing is submitted, there must also be submitted a public version of the filing. Such public filing version shall exclude confidential materials, and shall indicate on the cover page and on each affected page “Confidential materials excluded.” The Petition will be posted on the Commission's website at http://www.fmc.gov/P2-20. Replies filed in response to the Petition will also be posted on the Commission's website at this location.

Rachel Dickon,
Secretary.

[FR Doc. 2020-22722 Filed 10-13-20; 8:45 am]

BILLING CODE 6730-02-P